DEPARTMENT OF TRANSPORTATION

Maritime Administration

Notice of Solicitation of Nominations for Membership for the U.S. Maritime Transportation System National Advisory Committee

AGENCY: Maritime Administration, Department of Transportation.

ACTION: Notice of solicitation for membership.

SUMMARY: Pursuant to authority delegated by the Secretary of Transportation (Secretary) to the Maritime Administrator (Administrator) and the Federal Advisory Committee Act implementing regulations, the Maritime Administration (MARAD) requests nominations for membership on the U.S. Maritime Transportation System National Advisory Committee (Committee or MTSNAC).

DATES: Nominations for immediate consideration for appointment must be received on or before 5 p.m. ET on March 15, 2024. After that date, MARAD will continue to accept applications under this notice for a period of up to two years from the deadline to fill any vacancies that may arise. The Agency encourages nominations submitted any time before the deadline.

ADDRESSES:

• Email: MTSNAC@dot.gov, subject line: MTSNAC Application.

• Mail: MARAD-MTSNAC Designated Federal Officer, Room W21-310, U.S. Department of Transportation, 1200 New Jersey Ave. SE, Washington, DC 20590; please include name, mailing address, and telephone number.

FOR FURTHER INFORMATION CONTACT: Capt. Jeffrey Flumignan, Designated Federal Officer, at MTSNAC@dot.gov or (347) 491-2349. Please visit the MTSNAC website at http://www.marad.dot.gov/ports/marine-transportation-system-mts/marine-transportation-system-national-advisory-committee-mtsnac/.

For supplemental information: https://www.maritime.dot.gov/outreach/maritime-transportation-system-mts/maritime-transportation-system-national-advisory-0.

SUPPLEMENTARY INFORMATION:

I. Who should be considered for nomination as MTSNAC members?

The Maritime Administration seeks nominations for immediate consideration to fill approximately 6-8 positions on the Committee for the upcoming 2024-2026 Charter term and will continue to accept nominations under this notice on an ongoing basis for two years for consideration to fill vacancies that may arise during the charter term. Members will be selected in accordance with applicable Agency guidelines based on their ability to advise the Administrator on marine transportation issues. Members will be selected with a view toward a varied perspective of the marine transportation industry, including (1) active mariners; (2) vessel operators; (3) ports and terminal operators; (4) shippers or beneficiary cargo owners; (5) shipbuilders; (6) relevant policy areas such as innovative financing, economic competitiveness, performance monitoring, safety, labor, and environment; (7) freight customers and providers; and (8) government bodies. Registered lobbyists are prohibited from serving on Federal Advisory Committees in their individual capacities. The prohibition does not apply if registered lobbyists are specifically appointed to represent the interests of a nongovernmental entity, a recognizable group of persons, or nongovernmental entities (an industry sector, labor unions, environmental groups, etc.) or state or local governments. Registered lobbyists are lobbyists required to comply with provisions contained in the Lobbying Disclosure Act of 1995 (Pub. L. 110-81).

II. Do MTSNAC members receive compensation and/or per diem?

Committee members will receive no salary for participating in MTSNAC activities. While attending meetings or when otherwise engaged in Committee business, members may be reimbursed for travel and per diem expenses as permitted under applicable Federal travel regulations. Reimbursement is subject to funding availability.

III. What is the process for submitting nominations?

Individuals can self-apply or be nominated by any individual or organization. To be considered for the MTSNAC, nominators should submit the following information:

(1) Contact Information for the nominee, consisting of:

a. Name

b. Title

c. Organization or Affiliation

d. Address

f. City, State, Zip

g. Telephone number

h. Email address

(2) A statement of interest limited to 250 words on why the nominee wants to serve on the MTSNAC and the unique perspectives and experiences the nominee brings to the Committee;

(3) A resume limited to 3 pages describing professional and academic expertise, experience, and knowledge, including any relevant experience serving on advisory committees, past and present;

(4) An affirmative statement that the nominee is not a federally registered lobbyist seeking to serve on the Committee in their individual capacity and the identity of the interests they intend to represent if appointed as a member of the Committee;

(5) A 200 to 300-word professional biography; and

(6) A letter(s) of support, if available.

Please do not send company, trade association, organization brochures, or any other promotional information. Materials submitted should total five pages or less and must be in a 12 font, formatted in Microsoft Word or PDF. Should more information be needed, MARAD staff will contact the nominee, obtain information from the nominee's past affiliations, or obtain information from publicly available sources. If you are interested in applying to become a member of the Committee, send a completed application package by email to MTSNAC@dot.gov or by mail to MTSNAC-DFO, Room W21-310, U.S. Department of Transportation, 1200 New Jersey Ave. SE, Washington, DC 20590. Applications must be received on or before 5 p.m. ET on March 31, 2024; however, candidates are encouraged to send application any time before the deadline.

IV. How will MARAD select MTSNAC members?

A selection team comprised of representatives from the Maritime Administration will review the application packages. The selection team will make recommendations regarding membership to the Administrator based on the following criteria: (1) professional or academic expertise, experience, and knowledge; (2) stakeholder representation; (3) availability and willingness to serve; and (4) relevant experience in working in committees and advisory panels. Nominations are open to all individuals without regard to race, color, religion, sex, national origin, age, mental or physical disability, marital status, or sexual orientation.

(Authority: 49 CFR part 1.93(a); 5 U.S.C. 552b; 41 CFR parts 102-3; 5 U.S.C. app. sections 1-16)

By Order of the Maritime Administrator.
T. Mitchell Hudson, Jr.,
Secretary, Maritime Administration.

[FR Doc. 2024-02785 Filed 2-9-24; 8:45 am]

BILLING CODE 4910-81-P